DEPARTMENT OF THE TREASURY

Customs Service

[T.D. 01-47]

Retraction of Revocation Notice

AGENCY: U.S. Customs Service, Department of the Treasury.

ACTION: General notice.

SUMMARY: The following Customs broker license numbers were erroneously included in a list of revoked Customs broker licenses.

Last name | First name | License | Port name
Apke | Kristina B | 16557 | Cleveland
Badias | Joaquin Felipe | 10894 | Great Falls
Castilla | Judy | 06912 | New York
Connor, Sr | Paul F | 02856 | Baltimore
Grady | Kathleen M | 10368 | Philadelphia
Kala | Gulshan | 10188 | Houston
Malone | Helen | 10404 | Baltimore
Mayer | Susan Lee | 11108 | Miami
Stanley | James A | 10193 | Laredo

Customs broker licenses numbered 16557, 10894, 06912, 02856, 10368, 10188, 10404, 11108, and 10193 remain valid.

Dated: July 2, 2001.
John H. Heinrich,
Acting Assistant Commissioner, Office of Field Operations.

[FR Doc. 01-16962 Filed 7-5-01; 8:45 am]

BILLING CODE 4820-02-P